DEPARTMENT OF HEALTH AND HUMAN SERVICES

Administration for Children and Families

Submission for Office of Management and Budget (OMB) Review; Culture of Continuous Learning Project: Case Study of a Breakthrough Series Collaborative for Improving Child Care and Head Start Quality (New Collection)

AGENCY: Office of Planning, Research, and Evaluation, Administration for Children and Families, Department of Health and Human Services.

ACTION: Request for public comments.

SUMMARY: The Office of Planning, Research, and Evaluation (OPRE), Administration for Child and Families (ACF) is proposing an information collection activity for the Culture of Continuous Learning Project (CCL). The goal of the project is to assess the feasibility of implementing continuous quality improvement methods in early care and education (ECE) programs and systems to support the use and sustainability of evidence-based practices.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing OPREinfocollection@acf.hhs.gov. Identify all emailed requests should be identified by the title of the information collection.

SUPPLEMENTARY INFORMATION:

Description: The CCL project is proposing a new information collection activity to assess the feasibility of implementing continuous quality improvement methods in ECE programs and systems to support the use and sustainability of evidence-based practices. Three Breakthrough Series Collaboratives (BSCs), a specific quality improvement model designed to support the implementation of continuous quality improvement methods in organizations, will be implemented in Head Start and child care settings. The BSC methodology has been studied extensively in health care and other fields but has limited evidence as an effective quality improvement methodology in the early childhood field. The findings will be of broad interest to ECE programs as well as training and technical assistance providers and researchers, all of whom are interested in improving the quality of services young children receive.

Head Start and child care programs that voluntarily participate in the BSCs will be asked to complete a number of tools designed to facilitate implementation of the BSC. The implementation of the BSCs will be evaluated using a case study design that will involve focus groups, interviews, surveys, and classroom observations. To fully capture participants' experiences in the BSCs, the implementation and evaluation instruments are designed to engage respondents one to three times during a thirty six-month period, depending on the instrument. The goal of the case study is to document the factors that contribute to the feasibility of BSC implementation within a state quality improvement system (e.g., a state quality rating and improvement system) and/or a regional professional development or technical assistance system (e.g., a region within a state, or a cross-state region such as Head Start regional technical assistance areas) such that we can refine hypotheses and study measures which will be useful in the design of an evaluation for a future study of BSCs in ECE systems. The case study will also help determine what additional capacity ECE systems may need to adopt the BSC methodology and offer it within their system at a larger scale.

Respondents: Up to 45 ECE programs will be invited to complete an application to participate in a BSC and up to five people per program will be involved in completing the application. Up to eight programs will be selected to participate in one of three BSCs, for a total of up to 24 programs. Within each program, up to seven individuals (e.g., directors, lead teachers, assistant teachers, teacher aides, parents, curriculum specialists, etc.) will participate in the implementation of the BSC, meaning that up to 168 individuals will participate. Respondents will also include additional teachers (up to 114), program staff (up to 96), and parents (up to 2,136) located at participating Head Start and child care programs where a BSC is implemented but who are not members of the BSC Team.

Annual Burden Estimates
Instrument | Number of respondents (total over request period) | Number of responses per respondent (total over request period) | Avg. burden per response (in hours) | Total burden (in hours) | Annual burden (in hours)
BSC Implementation Instruments
Instrument 1: BSC Selection Application Questionnaire | 225 | 1 | 1.5 | 338 | 113
Instrument 2: Pre-Work Assignment: Data Collection Planning Worksheet | 48 | 1 | 2 | 96 | 32
Instrument 3: Plan, Do, Study, Act (PDSA)Form & Tracker | 168 | 34 | 0.25 | 1,428 | 476
Instrument 4: Monthly Metrics | 48 | 8 | 1.5 | 576 | 192
Instrument 5: Implementation Discussion Forum Prompts | 168 | 34 | 0.25 | 1,428 | 476
Instrument 6: Learning Session Feedback Form | 168 | 4 | 0.25 | 168 | 56
Instrument 7: Action Planning Form | 168 | 4 | 0.25 | 168 | 56
Instrument 8: BSC Overall Feedback Form | 168 | 1 | 0.25 | 42 | 14
Instrument 9: Organizational Self-Assessment | 168 | 5 | 1.5 | 1,260 | 420
BSC Evaluation Instruments
Instrument 10: Key Informant Interviews with BSC Faculty Members Affiliated with the States/Regions Discussion Guide | 9 | 1 | 1 | 9 | 3
Instrument 11: BSC Implementation Staff and Faculty Focus Group Discussion Guide | 30 | 2 | 1.5 | 90 | 30
Instrument 12: BSC Implementation Staff and Faculty Background Survey | 30 | 1 | 0.17 | 5 | 2
Instrument 13: Key Informant Interviews with BSC Center Administrators Discussion Guide | 24 | 2 | 1 | 48 | 16
Instrument 14: BSC Teachers and Support Staff Focus Group Discussion Guide | 120 | 2 | 1.5 | 360 | 120
Instrument 15: BSC Parent Focus Group Discussion Guide | 24 | 2 | 1.5 | 72 | 24
Instrument 16: Individual BSC Teams Focus Group Discussion Guide | 168 | 2 | 1.5 | 504 | 168
Instrument 17a: Administrator Surveys | 24 | 3 | 0.5 | 36 | 12
Instrument 17b: Teacher Surveys | 240 | 3 | 0.5 | 360 | 120
Instrument 17c: Other Center Staff Surveys | 96 | 3 | 0.5 | 144 | 48
Instrument 17di: Non-BSC Parent Surveys | 2136 | 2 | 0.25 | 1068 | 356
Instrument 17dii: BSC Parent Surveys | 24 | 3 | 0.5 | 36 | 12
Instrument 18: Classroom Observations | 48 | 3 | 0.33 | 48 | 16
Instrument 19: Administrative Data Survey | 24 | 4 | 0.25 | 24 | 8

Estimated Total Annual Burden Hours: 2,770.

Authority: Head Start Act 640 [42 U.S.C. 9835] and 649 [42 U.S.C. 9844]; appropriated by the Continuing Appropriations Act of 2019. Child Care and Development Block Grant Act of 1990 as amended by the CCDBG Act of 2014 (Public Law 113186).

Mary B. Jones,
ACF/OPRE Certifying Officer.

[FR Doc. 2022-27241 Filed 12-15-22; 8:45 am]

BILLING CODE 4184-22-P